FEDERAL MARITIME COMMISSION

Notice of Requests for Additional Information

The Commission gives notice that it has formally requested that the parties to the below listed agreement provide additional information pursuant to 46 U.S.C. 40304(d). This action prevents the proposed amendment to this agreement from becoming effective as originally scheduled. Interested parties may submit comments, relevant information, or documents regarding the agreement to the Secretary by email at Secretary@fmc.gov, or by mail, Federal Maritime Commission, 800 North Capitol Street, Washington, DC 20573. Comments may be filed up to fifteen (15) days after publication of this notice appears in the Federal Register.

Agreement No.: 201234-007.

Title: Agreement by Ocean Common Carriers to Participate on the Exchange Board.

Parties: CMA CGM SA; Hapag-Lloyd AG; COSCO Shipping Lines Co., Ltd; COSCO Shipping Co., Ltd.; HMM Company Limited; Maersk A/S; and Ocean Network Express Pte. Ltd. (ONE).

By Order of the Federal Maritime Commission.
Dated: March 11, 2025.
David Eng,
Secretary.

[FR Doc. 2025-04218 Filed 3-14-25; 8:45 am]

BILLING CODE 6730-02-P